DEPARTMENT OF THE INTERIOR

Office of Surface Mining Reclamation and Enforcement

30 CFR Part 943

[Docket No. TX-051-FOR]

Texas Regulatory Program

AGENCY: Office of Surface Mining Reclamation and Enforcement, Interior.

ACTION: Proposed rule; withdrawal of proposed amendment.

SUMMARY: We, the Office of Surface Mining Reclamation and Enforcement (OSM), are announcing the withdrawal of an amendment to the Texas regulatory program (Texas program) under the Surface Mining Control and Reclamation Act of 1977 (SMCRA or the Act). Texas proposed revisions to and additions of regulations regarding coal combustion by-products and coal combustion products. Texas intended to revise its program to clarify how the use and disposal of coal combustion by-products and coal combustion products are regulated at coal mine sites in Texas. By letter dated April 11, 2006, Texas withdrew the amendment at its own initiative.

DATES: This withdrawal is made on May 22, 2006.

FOR FURTHER INFORMATION CONTACT: Michael C. Wolfrom, Director, Tulsa Field Office. Telephone: (918) 581-6430. E-mail: mwolfrom@osmre.gov.

SUPPLEMENTARY INFORMATION:

I. Background on the Texas Program

II. Submission of the Proposed Amendment

I. Background on the Texas Program

Section 503(a) of the Act permits a State to assume primacy for the regulation of surface coal mining and reclamation operations on non-Federal and non-Indian lands within its borders by demonstrating that its State program includes, among other things, “a State law which provides for the regulation of surface coal mining and reclamation operations in accordance with the requirements of this Act * * *; and rules and regulations consistent with regulations issued by the Secretary pursuant to this Act.” See 30 U.S.C. 1253(a)(1) and (7). On the basis of these criteria, the Secretary of the Interior conditionally approved the Texas program effective February 16, 1980. You can find background information on the Texas program, including the Secretary's findings, the disposition of comments, and the conditions of approval, in the February 27, 1980, Federal Register (45 FR 12998). You can find later actions on the Texas program at 30 CFR 943.10, 943.15, and 943.16.

II. Submission of the Proposed Amendment

By letter dated December 9, 2003 (Administrative Record No. TX-656), Texas sent us an amendment to its program under SMCRA (30 U.S.C. 1201 et seq.). Texas sent the amendment at its own initiative.

We announced receipt of the proposed amendment in the February 3, 2004, Federal Register (69 FR 5102). In the same document, we opened the public comment period and provided an opportunity for a public hearing or meeting on the adequacy of the amendment. At the request of nine citizen groups and two industry groups, we held a public hearing in Austin, Texas, on March 1, 2004. We entered a transcript of the public hearing into the administrative record (Administrative Record No. TX-656.31). At the request of one citizen group, we extended the public comment period on March 3, 2004 (69 FR 9983). The extended public comment period ended on March 19, 2004. We received comments from four industry groups, two State agencies, one Federal agency, one consulting company, and ten citizen groups.

During our review of the amendment, we identified concerns about air pollution control, hydrologic information, performance bond release, recordkeeping and annual reporting, and the definition of “coal combustion by-products.” We notified Texas of these concerns by letters dated February 13, 2004, and May 7, 2004 (Administrative Record Nos. TX-656.04 and TX-656.39). On April 11, 2006 (Administrative Record No. TX-656.44), Texas requested that we withdraw the amendment. Texas intends to revise the amendment and submit it at a later date. Therefore, the proposed amendment announced in the February 3, 2004, Federal Register is withdrawn.

List of Subjects in 30 CFR Part 943

Intergovernmental relations, Surface mining, Underground mining.

Dated: April 28, 2006.
Charles E. Sandberg,
Regional Director, Mid-Continent Region

[FR Doc. E6-7735 Filed 5-19-06; 8:45 am]

BILLING CODE 4310-05-P